DEPARTMENT OF HEALTH AND HUMAN SERVICES

Centers for Disease Control and Prevention

[Program Announcement 03020]

Expansion of HIV/AIDS/STD Prevention, Care and Treatment, and Surveillance Activities in the People's Republic of China; Notice of Intent to Fund Single Eligibility Award

A. Purpose

The Centers for Disease Control and Prevention (CDC) announces the intent to fund fiscal year (FY) 2003 funds for a cooperative agreement program to expand and improve the effectiveness of HIV/AIDS prevention, care, and surveillance activities in China. No funding will be provided for research or programming in the area of family planning or reproductive health if the applicant includes coercive measures, abortion, or sterilization in its definition of those terms, or performs those activities directly or indirectly. The Catalog of Federal Domestic Assistance Number for this program is 93.941.

B. Eligible Applicant

Assistance will be provided only to the China Center for Disease Control and Prevention (CCDC) under the guidance of the Ministry of Health of the People's Republic of China. No funding will be provided to the State Family Planning Commission of the People's Republic of China under the terms of this cooperative agreement, whether directly or indirectly. The National Intelligence Council's September 2002 report, “The Next Wave of HIV/AIDS: Nigeria, Ethiopia, Russia, India, and China,” highlights the rising HIV/AIDS problem will be driven by the spread of the disease in these five populous countries, where the number of infected people will grow from around 14 to 23 million currently to an estimated number of 50 to 75 million by the year 2010. The Chinese Government has requested the assistance of the United States, and the U.S. Government has agreed to help them respond effectively to the growing HIV/AIDS epidemic. On June 28, 2002, Tommy Thompson, Secretary of the Department of Health and Human Services, pledged CDC to deliver financial and technical assistance to China under a memorandum of understanding with the Chinese Minister of Health. The CCDC is the only governmental entity authorized by China to enter into an agreement with CDC.

C. Funding

Approximately $2,000,000 is available in FY 2003 to fund this award. It is expected that the award will begin on or before April 1, 2003, and will be made for a 12-month budget period within a project period of up to five years. Funding estimates may change.

D. Where to Obtain Additional Information

For general comments or questions about this announcement, contact: Technical Information Management, CDC Procurement and Grants Office, 2920 Brandywine Road, Atlanta, GA 30341-4146, Telephone: 770-488-2700.

For technical questions about this program, contact: R.J. Simonds, M.D., Chief, HIV Prevention Branch, Global AIDS Program, National Center for HIV, STD and TB Prevention, Centers for Disease Control and Prevention, 1600 Clifton Rd., Mail Stop E-04, Atlanta, GA 30333, e-mail address: rxs5@cdc.gov.

Dated: March 19, 2003.
Sandra R. Manning,
CGFM, Director, Procurement and Grants Office, Centers for Disease Control and Prevention.

[FR Doc. 03-7181 Filed 3-25-03; 8:45 am]

BILLING CODE 4163-18-P